DEPARTMENT OF AGRICULTURE

Forest Service

Ashley Resource Advisory Committee

AGENCY: Forest Service, USDA.

ACTION: Notice of meeting.

SUMMARY: The Ashley Resource Advisory Committee will conduct a meeting to review project status and ammendments to project work. The committee is meeting as authorized under the Secure Rural Schools and Community Self-Determination Act (Pub. L 110-343) and in compliance with the Federal Advisory Committee Act. The purpose of the meeting is review the status of approved projects and consider ammendments to the scope of work on projects funded for implementation, approve meeting minutes, set the next meeting date, time and location and receive public comment.

DATES: The meeting will be held November 10, 2011, from 6 p.m. to 8 p.m.

ADDRESSES: The business meeting will be held in the fire center conference room of the Ashley National Forest at 355 North Vernal Avenue, Vernal, Utah 84078. Written comments should be sent to Ashley National Forest, 355 North Vernal Avenue, Vernal, UT 84078. Comments may also be sent via e-mail to ljhaynes@fs.fed.us, or via facsimile to 435-781-5142.

All comments, including names and addresses when provided, are placed in the record and are available for public inspection and copying. The public may inspect comments received at Ashley National Forest, 355 North Vernal Avenue, Vernal, UT.

FOR FURTHER INFORMATION CONTACT: Louis Haynes, RAC Coordinator, Ashley National Forest, (435) 781-5105; e-mail: ljhaynes@fs.fed.us.

Individuals who use telecommunication devices for the deaf (TDD) may call the Federal Information Relay Service (FIRS) at 1-800-877-8339 between 8 a.m. and 8 p.m., Eastern Standard Time, Monday through Friday.

SUPPLEMENTARY INFORMATION: The business meeting is open to the public. The following business will be conducted: (1) Welcome and roll call; (2) Approval of meeting minutes; (3) Review of approved projects and modification to scope of work; (4) review of next meeting purpose, location, and date; (5) Receive public comment. Persons who wish to bring related matters to the attention of the Committee may file written statements with the committee staff before or after the meeting. Public input sessions will be provided and individuals who made written requests by November 5, 2011 will have the opportunity to address the committee at these meetings.

Dated: October 4, 2011.
Nicholas T. Schmelter,
Acting Forest Supervisor.

[FR Doc. 2011-26423 Filed 10-12-11; 8:45 am]

BILLING CODE 3410-11-M